DEPARTMENT OF DEFENSE

Defense Acquisition Regulations System

[Docket Number DARS-2022-0033; OMB Control Number 0750-0001]

Information Collection Requirement; Defense Federal Acquisition Regulation Supplement; Performance-Based Payments—Representation

AGENCY: Defense Acquisition Regulations System; Department of Defense (DoD).

ACTION: Notice and request for comments regarding a proposed extension of an approved information collection requirement.

SUMMARY: In compliance with the Paperwork Reduction Act of 1995, DoD announces the proposed extension of a public information collection requirement and seeks public comment on the provisions thereof. DoD invites comments on: whether the proposed collection of information is necessary for the proper performance of the functions of DoD, including whether the information will have practical utility; the accuracy of the estimate of the burden of the proposed information collection; ways to enhance the quality, utility, and clarity of the information to be collected; and ways to minimize the burden of the information collection on respondents, including through the use of automated collection techniques or other forms of information technology. The Office of Management and Budget (OMB) has approved this information collection for use under Control Number 0750-0001 through April 30, 2023. DoD proposes that OMB approve an extension of the information collection requirement, to expire three years after the approval date.

DATES: DoD will consider all comments received by February 14, 2023.

ADDRESSES: You may submit comments, identified by OMB Control Number 0750-0001, using any of the following methods:

○ Federal eRulemaking Portal: https://www.regulations.gov. Follow the instructions for submitting comments.

○ Email: osd.dfars@mail.mil. Include OMB Control Number 0750-0001 in the subject line of the message.

Comments received generally will be posted without change to https://www.regulations.gov, including any personal information provided.

FOR FURTHER INFORMATION CONTACT: Mr. David Johnson, at 202-913-5764.

SUPPLEMENTARY INFORMATION:

Title and OMB Number: Defense Federal Acquisition Regulation Supplement (DFARS) Performance-Based Payments—Representation; OMB Control Number 0750-0001.

Affected Public: Businesses or other for-profit and not-for-profit institutions.

Respondent's Obligation: Required to obtain or retain benefits.

Reporting Frequency: On occasion.

Number of Respondents: 144.

Responses per Respondent: 1.

Annual Responses: 144.

Average Burden per Response: 0.1 hour.

Annual Burden Hours: 14.4.

Needs and Uses: This information collection concerns the Defense Federal Acquisition Regulation Supplement (DFARS) solicitation provision at 252.232-7015, Performance-Based Payments—Representation. This provision is prescribed at DFARS 232.1005-70(b) for use in solicitations where the resulting contract may include performance-based payments. This representation will be included in the annual representations and certifications in the System for Award Management. Paragraph (b) of the provision requires the offeror to check a box indicating whether the offeror's financial statements are in compliance with Generally Accepted Accounting Principles. DoD will use this information to decide whether the offeror is eligible for performance-based payments.

Jennifer D. Johnson,
Editor/Publisher, Defense Acquisition Regulations System.

[FR Doc. 2022-27208 Filed 12-15-22; 8:45 am]

BILLING CODE 5001-06-P